DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before March 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: SS-4, Application for Employer Identification Number, and Form SS-4PR, Solicitud de Numero de Identification Patronal (EIN).

OMB Control Number: 1545-0003.

Type of Review: Extension of a currently approved collection.

Description: Taxpayers who are required to have an identification number for use on any return, statement, or other document must prepare and file Form SS-4 or Form SS-4PR (Puerto Rico only) to obtain a number. The information is used by the Internal Revenue Service and the Social Security Administration in tax administration and by the Bureau of the Census for business statistics.

Form Number: Forms SS-4 and SS-4PR.

Affected Public: Business or other for-profit organizations, individuals or households, not-for-profit institutions, farms, federal government, and state, local or tribal governments.

Estimated Number of Respondents: 5,965,735.

Frequency of Response: On Occasion.

Estimated Total Number of Annual Responses: 5,965,735.

Estimated Time per Response: 0.33 mins.

Estimated Total Annual Burden Hours: 3,340,812.

2. Title: Life Insurance Statement.

OMB Control Number: 1545-0022.

Type of Review: Extension of a currently approved collection.

Description: Form 712 provides taxpayers and the IRS with information to determine if insurance on the decedent's life is includible in the gross estate and to determine the value of the policy for estate and gift tax purposes. The tax is based on the value of the life insurance policy.

Form Number: Form 712.

Affected Public: Business or other for-profit organizations.

Estimated Number of Respondents: 60,000.

Frequency of Response: Annually.

Estimated Total Number of Annual Responses: 60,000.

Estimated Time per Response: 18 hours, 40 minutes.

Estimated Total Annual Burden Hours: 1,120,200.

3. Title: Application for Exemption from Social Security and Medicare Taxes and Waiver of Benefits.

OMB Control Number: 1545-0064.

Type of Review: Extension of a currently approved collection.

Description: Form 4029 is used by members of recognized religious groups to apply for exemption from social security and Medicare taxes under Internal Revenue Code sections 1402(g) and 3127. The information is used to approve or deny exemption from social security and Medicare taxes.

Form Number: Form 4029.

Affected Public: Individuals or households.

Estimated Number of Respondents: 3,754.

Frequency of Response: Annually.

Estimated Total Number of Annual Responses: 3,754.

Estimated Time per Response: 1 hour, 1 minute.

Estimated Total Annual Burden Hours: 3,792.

4. Title: Certain Government Payments.

OMB Control Number: 1545-0120.

Type of Review: Extension of a currently approved collection.

Description: Form 1099-G is used to report government payments such as unemployment compensation, state and local income tax refunds, credits, or offsets, reemployment trade adjustment assistance (RTAA) payments, taxable grants, agricultural payments, or for payments received on a Commodity Credit Corporation (CCC) loan.

Form Number: 1099-G.

Affected Public: Federal, state, local or tribal governments.

Estimated Number of Respondents: 1,900.

Frequency of Response: Annually.

Estimated Total Number of Annual Responses: 82,364,600.

Estimated Time per Response: 0.3 hours.

Estimated Total Annual Burden Hours: 24,709,380.

5. Title: Investment Credit.

OMB Control Number: 1545-0155.

Type of Review: Extension of a currently approved collection.

Description: Form 3468 is used to compute Taxpayers' credit against their income tax for certain expenses incurred for their trades or businesses. The information collected is used by the IRS to verify that the credit has been correctly computed.

Form Number: Form 3468.

Affected Public: Business or other for-profit organizations.

Estimated Number of Respondents: 15,345.

Frequency of Response: Annually.

Estimated Total Number of Annual Responses: 15,345.

Estimated Time per Response: 34 hours, 7 minutes.

Estimated Total Annual Burden Hours: 545,822.

6. Title: Certain Gambling Winnings.

OMB Control Number: 1545-0238.

Type of Review: Revision of a currently approved collection.

Description: Internal Revenue Code sections 6041, 3402(q), and 3406 require payers of certain gambling winnings to withhold tax and to report the winnings to the IRS. The IRS uses the information to verify compliance with the reporting rules and to verify that the winnings are properly reported on the recipient's tax return.

Form Number: Form W-2G.

Affected Public: Business or other for-profit organizations, individuals or households, and not-for-profit institutions, farms, and Federal, state, local or tribal governments.

Estimated Number of Respondents: 14,895,700.

Frequency of Response: Annually.

Estimated Total Number of Annual Responses: 14,895,700.

Estimated Time per Response: 24 minutes.

Estimated Total Annual Burden Hours: 6,107,237.

7. Title: Claim for Refund of Income Tax Return Preparer Penalties.

OMB Control Number: 1545-0240.

Type of Review: Extension of a currently approved collection.

Description: Form 6118 is used by tax return preparers to file for a refund of penalties incorrectly charged. The information enables the IRS to process the claim and have the refund issued to the tax return preparer.

Form Number: Form 6118.

Affected Public: Business or other for-profit organizations; and individuals or households.

Estimated Number of Respondents: 5,000.

Frequency of Response: Annually.

Estimated Total Number of Annual Responses: 5,000.

Estimated Time per Response: 1 hour, 8 minutes.

Estimated Total Annual Burden Hours: 5,700.

8. Title: Application for Filing Information Returns Electronically (FIRE).

OMB Control Number: 1545-0387.

Type of Review: Revision of a currently approved collection.

Description: Under section 6011(e)(2)(a) of the Internal Revenue Code, any person, including corporations, partnerships, individuals, estates, and trusts, who is required to file 250 or more information returns must file such returns magnetically or electronically. Payers required to file on magnetic media or electronically must complete Form 4419 to receive authorization to file.

Form Number: 4419.

Affected Public: Business or other for-profit organizations, non-profit institutions, and Federal, State, local, or tribal governments.

Estimated Number of Respondents: 15,000.

Frequency of Response: Annually.

Estimated Total Number of Annual Responses: 15,000.

Estimated Time per Response: 20 minutes.

Estimated Total Annual Burden Hours: 4,950.

9. Title: Request for Public Inspection or Copy of Exempt or Political Organization IRS Form (Form 4506-A) and Request for a Copy of Exempt Organization IRS Application or Letter (Form 4506-B).

OMB Control Number: 1545-0495.

Type of Review: Extension of a currently approved collection.

Description: Internal Revenue Code section 6104 states that if an organization described in section 501(c) or (d) is exempt from taxation under section 501(a) for any taxable year, the application for exemption is open for public inspection. This includes all supporting statements, any letter or other documents issued by the IRS concerning the application, and certain annual returns of the organization. Form 4506-A, Request for Public Inspection or Copy of Exempt or Political Organization IRS Form and Form 4506-B, Request for a Copy of Exempt Organization IRS Application or Letter, is used to request public inspection or a copy of these forms.

Form Number: 4506-A and 4506-B.

Affected Public: Individuals or households, businesses or other for-profit organizations, not-for-profit institutions, farms, and Federal, state, local or tribal governments.

Estimated Number of Respondents: 20,000.

Frequency of Response: Annually.

Estimated Total Number of Annual Responses: 20,000.

Estimated Time per Response: 58 minutes.

Estimated Total Annual Burden Hours: 19,440.

10. Title: Taxable Fuel; registration.

OMB Control Number: 1545-0725.

Type of Review: Extension of a currently approved collection.

Description: Under IRC section 4101(b) Secretary may require, as a condition of registration under 4101(a), that the applicant give a bond in an amount that the Secretary determines is appropriate. Applicant's that do not meet all the applicable registration tests for Form 637 registration must secure a federal bond, from an acceptable surety or reinsurer listed in Circular 570, prior to receiving a Form 637 registration under section 4101. Form 928 is used for this purpose.

Form Number: 928.

Affected Public: Business or other for-profit organizations.

Estimated Number of Respondents: 500.

Frequency of Response: Annually.

Estimated Total Number of Annual Responses: 500.

Estimated Time per Response: 2.56 hours.

Estimated Total Annual Burden Hours: 1,280.

11. Title: Returns Required on Magnetic Media.

OMB Control Number: 1545-0957.

Type of Review: Extension of a currently approved collection.

Description: Section 6011(e)(2)(A) of the Internal Revenue Code, as amended by Section 7713 of the Revenue Reconciliation Act of 1989, Public Law 101 239 (1989), 103 Stat. 2106, requires certain filers of information returns to report these on magnetic media. Filers who seek relief from this requirement can use Form 8508 to request a waiver for a specific time. After evaluating the request, IRS will notify the taxpayer as to whether the request is approved or denied.

Form Number: Form 8508.

Affected Public: Business or other for-profit organizations, farms, Federal government, and State, local or tribal governments, and Not-for-Profit Organizations.

Estimated Number of Respondents: 1,000.

Frequency of Response: Annually.

Estimated Total Number of Annual Responses: 1,000.

Estimated Time per Response: 45 minutes.

Estimated Total Annual Burden Hours: 750.

12. Title: Proceeds From Real Estate Transactions.

OMB Control Number: 1545-0997.

Type of Review: Extension of a currently approved collection.

Description: Internal Revenue Code section 6045(e) and the regulations there under require persons treated as real estate brokers to submit an information return to the IRS to report the gross proceeds from real estate transactions. Form 1099-S is used for this purpose. The IRS uses the information on the form to verify compliance with the reporting rules regarding real estate transactions.

Form Number: 1099-S.

Affected Public: Business or other-for-profit organizations; and individuals or households.

Estimated Number of Respondents: 122,415.

Frequency of Response: Annually.

Estimated Total Number of Annual Responses: 4,200,300.

Estimated Time per Response: 10 minutes.

Estimated Total Annual Burden Hours: 672,048.

13. Title: Excise Tax Relating to Gain or Other Income Realized By Any Person on Receipt of Greenmail.

OMB Control Number: 1545-1049.

Type of Review: Extension of a currently approved collection.

Description: The regulations provide rules relating to the manner and method of reporting and paying the nondeductible 50 percent excise tax imposed by section 5881 of the Internal Revenue Code with respect to the receipt of greenmail. The reporting requirements will be used to verify that the excise tax imposed under section 5881 is properly reported and timely paid. Form 8725 is used by persons who receive “greenmail” to compute and pay the excise tax on greenmail imposed under Internal Revenue Code section 5881. IRS uses the information to verify that the correct amount of tax has been reported.

Form Number: 8725.

Affected Public: Individuals; and business or other for-profit organizations.

Estimated Number of Respondents: 12.

Frequency of Response: Annually.

Estimated Total Number of Annual Responses: 12.

Estimated Time per Response: 7 hours, 37 minutes.

Estimated Total Annual Burden Hours: 92.

14. Title: Tax Treatment of Salvage and Reinsurance.

OMB Control Number: 1545-1227.

Type of Review: Extension of a currently approved collection.

Description: Section 1.832-4(d) of this regulation allows a nonlife insurance company to increase unpaid losses on a yearly basic by the amount of estimated salvage recoverable if the company discloses this to the state insurance regulatory authority.

Form Number: None.

Affected Public: Business or other for-profit organizations.

Estimated Number of Respondents: 2,500.

Frequency of Response: Annually.

Estimated Total Number of Annual Responses: 2,500.

Estimated Time per Response: 2 hours.

Estimated Total Annual Burden Hours: 5,000.

15. Title: Limitations on Passive Activity Losses and Credits—Treatment of Self-charged Items of Income and Expense.

OMB Control Number: 1545-1244.

Type of Review: Extension of a currently approved collection.

Description: Regulation section 1.469-7(g) permits entities to elect to avoid application of section 1.469-7 in the event the passthrough entity chooses to not have the income from lending transactions with owners of interests in the entity recharacterized as passive activity gross income. The IRS will use this information to determine whether the entity has made a proper timely election and to determine that taxpayers are complying with the election in the taxable year of the election and subsequent taxable years.

Form Number: None.

Affected Public: Individuals or households; and Business or other for-profit.

Estimated Number of Respondents: 1,000.

Frequency of Response: Annually.

Estimated Total Number of Annual Responses: 1,000.

Estimated Time per Response: 6 minutes.

Estimated Total Annual Burden Hours: 100.

16. Title: Bad Debt Reserves of Banks.

OMB Control Number: 1545-1290.

Type of Review: Extension of a currently approved collection.

Description: Section 585(c) of the Internal Revenue Code requires large banks to change from reserve method of accounting to the specific charge off method of accounting for bad debts. Section 1.585-8 of the regulation contains reporting requirements in cases in which large banks elect (1) to include in income an amount greater than that prescribed by the Code; (2) to use the elective cut-off method of accounting; or (3) to revoke any elections previously made.

Form Number: None.

Affected Public: Business or other for-profit organizations.

Estimated Number of Respondents: 2,500.

Frequency of Response: Annually.

Estimated Total Number of Annual Responses: 2,500.

Estimated Time per Response: 15 minutes.

Estimated Total Annual Burden Hours: 625.

17. Title: Qualified Electric Vehicle Credit.

OMB Control Number: 1545-1374.

Type of Review: Extension of a currently approved collection.

Description: Form 8834 is used to claim any qualified electric vehicle passive activity credit allowed for the current tax year. The IRS uses the information on the form to determine that the credit is allowable and has been properly computed.

Form Number: 8834.

Affected Public: Individuals or households; and businesses or other for-profit organizations.

Estimated Number of Respondents: 3,136.

Frequency of Response: Annually.

Estimated Total Number of Annual Responses: 3,136.

Estimated Time per Response: 4 hours, 47 minutes.

Estimated Total Annual Burden Hours: 15,022.

18. Title: Claim for Refund of Excise Taxes.

OMB Control Number: 1545-1420.

Type of Review: Extension of a currently approved collection.

Description: IRC sections 6402, 6404, 6511 and sections 301.6402-2, 301.6404-1, and 301.6404-3 of the regulations allow for refunds of taxes (except income taxes) or refund, abatement, or credit of interest, penalties, and additions to tax in the event of errors or certain actions by IRS. Taxpayers use Form 8849 to claim refunds of excise taxes.

Form Number: Form 8849 and Schedules 1,2,3,5,6, and 8.

Affected Public: Individuals or households; and businesses or other for-profit organizations; Not-for-profit institutions; farms; Federal, state, local and tribal governments.

Estimated Number of Respondents: 111,147.

Frequency of Response: Annually.

Estimated Total Number of Annual Responses: 111,147.

Estimated Time per Response: 8 hours, 31 minutes.

Estimated Total Annual Burden Hours: 946,827.

19. Title: Electronic Federal Tax Payment System (EFTPS).

OMB Control Number: 1545-1467.

Type of Review: Extension of a currently approved collection.

Description: These forms are used by business and individual taxpayers to enroll in the Electronic Federal Tax Payment System (EFTPS). EFTPS is an electronic remittance processing system the Service uses to accept electronically transmitted federal tax payments. EFTPS (1) establishes and maintains a taxpayer data base which includes entity information from the taxpayers or their banks, (2) initiates the transfer of the tax payment amount from the taxpayer's bank account, (3) validates the entity information and selected elements for each taxpayer, and (4) electronically transmits taxpayer payment data to the IRS.

Form Number: Forms 9779, 9783, and 14781.

Affected Public: Individuals; business or other for-profit organizations; and state, local or tribal governments.

Estimated Number of Respondents: 698.

Frequency of Response: Annually.

Estimated Total Number of Annual Responses: 698.

Estimated Time per Response: 0.17 hours.

Estimated Total Annual Burden Hours: 121.

20. Title: Requirements Respecting the Adoption or Change of Accounting Method; Extensions of Time To Make Elections.

OMB Control Number: 1545-1488.

Type of Review: Extension of a currently approved collection.

Description: This final regulation provides the procedures for requesting an extension of time to make certain elections, including changes in accounting method and accounting period. In addition, the regulation provides the standards that the IRS will use in determining whether to grant taxpayers extensions of time to make these elections.

Form Number: None.

Affected Public: Business or other for-profit organizations; individuals; not-for-profit institutions; and farms.

Estimated Number of Respondents: 500.

Frequency of Response: Annually.

Estimated Total Number of Annual Responses: 500.

Estimated Time per Response: 10 hours.

Estimated Total Annual Burden Hours: 5,000.

21. Title: Request for Taxpayer Advocate Service Assistance (And Application for Taxpayer Assistance Order).

OMB Control Number: 1545-1504.

Type of Review: Extension of a currently approved collection.

Description: Form 911 is used by taxpayers to apply for relief from a significant hardship which may have already occurred or is about to occur if the IRS takes or fails to take certain actions. This form is submitted to the IRS Taxpayer Advocate Office in the district where the taxpayer resides.

Form Number: Form 911 and 911(SP).

Affected Public: Individuals or households; business or other for-profit organizations; not-for-profit institutions; farms; and state, local or tribal governments.

Estimated Number of Respondents: 93,000.

Frequency of Response: Annually.

Estimated Total Number of Annual Responses: 93,000.

Estimated Time per Response: 30 minutes.

Estimated Total Annual Burden Hours: 46,500.

22. Title: Mark to Market Election for Commodities Dealers and Securities and Commodities Traders.

OMB Control Number: 1545-1641.

Type of Review: Extension of a currently approved collection.

Description: The revenue procedure prescribes the time and manner for dealers in commodities and traders in securities or commodities to elect to use the mark-to-market method of accounting under Sec. 475(e) or (f) of the Internal Revenue Code. The collections of information of this revenue procedure are required by the IRS in order to facilitate monitoring taxpayers changing accounting methods resulting from making the elections under Sec. 475(e) or (f).

Revenue Procedure Number: 99-17 (Revenue Procedure 99-17 is modified by Revenue Procedure 99-49.

Affected Public: Business or other for-profit organizations.

Estimated Number of Respondents: 1,000.

Frequency of Response: Annually.

Estimated Total Number of Annual Responses: 1,000.

Estimated Time per Response: 30 minutes.

Estimated Total Annual Burden Hours: 500.

23. Title: Combined Information Reporting.

OMB Control Number: 1545-1667.

Type of Review: Extension of a currently approved collection.

Description: Revenue Procedure 99-50 permits combined information reporting by a successor business entity (i.e., a corporation, partnership, or sole proprietorship) in certain situations following a merger or an acquisition. Combined information reporting may be elected by a successor with respect to certain Forms 1042-S and all forms in series 1098, 1099, and 5498. The procedures also apply to Forms 1097, 3921, 3922, and W-2G. The successor must file a statement with the IRS indicating what forms are being filed on a combined basis.

Form Number: None.

Affected Public: Business or other for-profit organizations, not-for-profit institutions, and farms.

Estimated Number of Respondents: 6,000.

Frequency of Response: Annually.

Estimated Total Number of Annual Responses: 6,000.

Estimated Time per Response: 5 minutes.

Estimated Total Annual Burden Hours: 500.

24. Title: Amortization of Intangible Property.

OMB Control Number: 1545-1671.

Type of Review: Extension of a currently approved collection.

Description: These regulations apply to property acquired after January 25, 2000. Regulations to implement section 197(e)(4)(D) are applicable August 11, 1993, for property acquired after August 10, 1993 (or July 26, 1991, for property acquired after July 25, 1991, if a valid retroactive election has been made under § 1.197-1).

Form Number: None.

Affected Public: Business or other for-profit organizations.

Estimated Number of Respondents: 500.

Frequency of Response: Annually.

Estimated Total Number of Annual Responses: 500.

Estimated Time per Response: 3 hours.

Estimated Total Annual Burden Hours: 1,500.

25. Title: Guidance on Reporting Interest Paid to Nonresident Aliens.

OMB Control Number: 1545-1725.

Type of Review: Extension of a currently approved collection.

Description: This document contains final regulations that provide guidance on the reporting requirements for interest on deposits maintained at the U.S. office of certain financial institutions and paid to nonresident alien individuals. These proposed regulations affect persons making payments of interest with respect to such a deposit.

Form Number: None.

Affected Public: Businesses or other for-profit organizations.

Estimated Number of Respondents: 2,000.

Frequency of Response: Annually.

Estimated Total Number of Annual Responses: 2,000.

Estimated Time per Response: 15 minutes.

Estimated Total Annual Burden Hours: 500.

26. Title: Interest Rates and Appropriate Foreign Loss Payment Patterns for Determining the Qualified Insurance Income of Certain Controlled Corporations under Section 954(f).

OMB Control Number: 1545-1799.

Type of Review: Extension of a currently approved collection.

Description: Notice 2002-69 (2002-43 I.R.B. 730) published October 28, 2002, provides interim guidance for determining the interest rates and appropriate foreign loss payment patterns to be used by controlled foreign corporations in calculating their qualified insurance income under section 954(i) of the Internal Revenue Code. Taxpayers may rely on the guidance in this notice until regulations or other guidance are published.

Form Number: None.

Affected Public: Individuals or households, business, or other for-profit organizations.

Estimated Number of Respondents: 300.

Frequency of Response: Annually.

Estimated Total Number of Annual Responses: 300.

Estimated Time per Response: 1 hour.

Estimated Total Annual Burden Hours: 300.

27. Title: Section 9100 Relief for 338 Elections.

OMB Control Number: 1545-1820.

Type of Review: Extension of a currently approved collection.

Description: Revenue Procedure 2003-33 provides qualifying taxpayers with an extension of time pursuant to § 301.9100-3 of the Procedure and Administration Regulations to file an election described in § 338(a) or § 338(h)(10) of the Internal Revenue Code to treat the purchase of the stock of a corporation as an asset acquisition.

Form Number: None.

Affected Public: Business or other for-profit organizations, and individuals or households.

Estimated Number of Respondents: 60.

Frequency of Response: On Occasion.

Estimated Total Number of Annual Responses: 60.

Estimated Time per Response: 5 hours.

Estimated Total Annual Burden Hours: 300.

28. Title: Guidance Regarding the Treatment of Certain Contingent Payment Debt Instructions with one or more Payments that are Denominated in, or Determined by Reference to, a Nonfunctional Currency.

OMB Control Number: 1545-1831.

Type of Review: Extension of a currently approved collection.

Description: This document contains final regulations regarding the treatment of contingent payment debt instruments for which one or more payments are denominated in, or determined by reference to, a currency other than the taxpayer's functional currency. These regulations are necessary because current regulations do not provide guidance concerning the tax treatment of such instruments. The regulations affect issuers and holders of such instruments.

Form Number: None.

Affected Public: Businesses and other-for-profit organizations, Farms.

Estimated Number of Respondents: 100.

Frequency of Response: On Occasion.

Estimated Total Number of Annual Responses: 250.

Estimated Time per Response: 24 minutes.

Estimated Total Annual Burden Hours: 100.

29. Title: Qualified Severance of a Trust for Generation-Skipping Transfer (GST) Tax Purposes.

OMB Control Number: 1545-1902.

Type of Review: Extension of a currently approved collection.

Description: This previously approved Regulation requires taxpayers to report a qualified severance by filing a Form 706-GS(T), or such other form that may be published by the Internal Revenue Service in the future that is specifically designated to be utilized to report qualified severances. Where Form 706-GS(T) is used, the filer should attach a Notice of Qualified Severance to the return that clearly identifies the trust that is being severed and the new trusts created as a result of the severance. The Notice must also provide the inclusion ratio of the trust that was severed and the inclusion ratios of the new trusts resulting from the severance. The information collected will be used by the IRS to identify the trusts being severed and the new trusts created upon severance. The collection of information is required in order to have a qualified severance.

Form Number: None.

Affected Public: Business or other for-profit organizations.

Estimated Number of Respondents: 650.

Frequency of Response: On Occasion.

Estimated Total Number of Annual Responses: 650.

Estimated Time per Response: 2 hours, 5 minutes.

Estimated Total Annual Burden Hours: 1,352.

30. Title: Application for Automatic Extension of Time to File Form 709 and/or Payment of Gift/Generation-Skipping Transfer Tax.

OMB Control Number: 1545-1913.

Type of Review: Extension of a currently approved collection.

Description: Form 8892 was created to serve a dual purpose. First, the form enables the taxpayers to request an automatic 6-month extension of time to file Form 709 when they are not filing an individual income tax extension using Form 4868. Second, to make a payment of gift tax when you're applying for an extension of time to file Form 709 (including payment of any generation-skipping transfer (GST) tax from Form 709).

Form Number: Form 8892.

Affected Public: Individuals or households.

Estimated Number of Respondents: 21.

Frequency of Response: Annually.

Estimated Total Number of Annual Responses: 21.

Estimated Time per Response: 43 minutes.

Estimated Total Annual Burden Hours: 16 hours.

31. Title: Low Sulfur Diesel Fuel Production Credit.

OMB Control Number: 1545-1914.

Type of Review: Extension of a currently approved collection.

Description: IRC section 45H allows small business refiners to claim a credit for the production of low sulfur diesel fuel. The American Jobs Creation Act of 2004 section 399 brought it into existence. Form 8896 will allow taxpayers to use a standardized format to claim this credit.

Form Number: Form 8896.

Affected Public: Business or other for-profit organizations.

Estimated Number of Respondents: 66.

Frequency of Response: Annually.

Estimated Total Number of Annual Responses: 66.

Estimated Time per Response: 3 hours, 59 minutes.

Estimated Total Annual Burden Hours: 260.

32. Title: Repayment of a buyout prior to re-employment with the Federal Government.

OMB Control Number: 1545-1920.

Type of Review: Extension of a currently approved collection.

Description: This form requests applicants to certify if they ever worked for the Federal Government and if they received a Buyout within the last 5 years. This is to ensure that applicants who meet the criteria are counseled that they are required to pay back the entire Buyout prior to entering on duty with the IRS.

Form Number: 12311.

Affected Public: Individuals or households and Federal Government.

Estimated Number of Respondents: 6,624.

Frequency of Response: On Occasion.

Estimated Total Number of Annual Responses: 6,624.

Estimated Time per Response: 4.8 mins.

Estimated Total Annual Burden Hours: 530.

33. Title: Information Referral.

OMB Control Number: 1545-1960.

Type of Review: Extension of a currently approved collection.

Description: Form 3949-A is used by certain taxpayer/investors to wishing to report alleged tax violations. The form will be designed to capture the essential information needed by IRS for an initial evaluation of the report. Upon return, the Service will conduct the same back-end processing required under present IRM guidelines. Submission of the information to be included on the form is entirely voluntary on the part of the caller and is not a requirement of the Tax Code.

Form Number: Form 3949-A.

Affected Public: Individuals and Households.

Estimated Number of Respondents: 215,000.

Frequency of Response: On Occasion.

Estimated Total Number of Annual Responses: 215,000.

Estimated Time per Response: 15 hours.

Estimated Total Annual Burden Hours: 53,750.

34. Title: Guidance on Passive Foreign Investment Company (PFIC) Purging Elections.

OMB Control Number: 1545-1965.

Type of Review: Extension of a currently approved collection.

Description: Section 1.1297-3T(c) allows a shareholder of a 1297(e) PFIC to make a deemed dividend election pursuant to which the shareholder includes in income as a dividend its pro rata share of the post-1986 earning and profit of the PFIC attributable to all of the stock it held, directly or indirectly on the CFC qualification date, as defined in 1.1297-3T(d). The IRS needs the information to substantiate the taxpayer's computation of the taxpayer's share of the PFIC's post-1986 earning and profits.

Form Number: None.

Affected Public: Business or other-for-profit organizations and individuals.

Estimated Number of Respondents: 250.

Frequency of Response: Annually.

Estimated Total Number of Annual Responses: 250.

Estimated Time per Response: 1 hour.

Estimated Total Annual Burden Hours: 250.

35. Title: Measurement of Assets and Liabilities for Pension Funding Purposes.

OMB Control Number: 1545-2095.

Type of Review: Revision of a currently approved collection.

Description: In order to implement the statutory provisions under sections 430 and 436, this final regulation contains collections of information in §§ 1.430(f)-1(f), 1.430(h)(2)-1(e), 1.436-1(f), and 1.436-1(h). The information required under § 1.430(f)-1(f) is required in order for plan sponsors to make elections regarding a plan's credit balances upon occasion. The information under § 1.430(g)-1(d)(3) is required in order for a plan sponsor to include as a plan asset a contribution made to avoid a restriction under section 436. The information required under § 1.430(h)(2)-1(e) is required in order for a plan sponsor to make an election to use an alternative interest rate for purposes of determining a plan's funding obligations under § 1.430(h)(2)-1. The information required under §§ 1.436-1(f) and 1.436-1(h) is required in order for a qualified defined benefit plan's enrolled actuary to provide a timely certification of the plan's adjusted funding target attainment percentage (AFTAP) for each plan year to avoid certain benefit restrictions.

The Highway and Transportation Funding Act of 2014 (HATFA), Public Law 113-159, was enacted on August 8, 2014, and was effective retroactively for single employer defined benefit pension plans, optional for plan years beginning in 2013 and mandatory for plan years beginning in 2014.

Section 3608(b) of the Coronavirus Aid, Relief, and Economic Security Act (CARES Act), Public Law 116-136 provides that for purposes of applying § 436 of the Code (and § 206(g) of ERISA), a sponsor of a single-employer defined benefit pension plan may elect to treat the plan's adjusted funding target attainment percentage (AFTAP) for the last plan year ending before January 1, 2020, as the AFTAP for plan years that include calendar year 2020. Notice 2020-61, in part, provides guidance on the rules relating to this election.

Section 115(a) of the Setting Every Community Up for Retirement Enhancement Act of 2019 (SECURE Act), Division O of the Further Consolidated Appropriations Act, 2020, Public Law 116-94, added new § 430(m) to the Code to permit the plan sponsor of a community newspaper plan under which no participant has had an increase in accrued benefit after December 31, 2017 to elect to have alternative minimum funding standards apply to the plan in lieu of the minimum funding requirements that would otherwise apply under § 430. Pursuant to § 430(m)(2), any election under § 430(m) will be made at such time and in such manner as prescribed by the Secretary, and once an election is made with respect to a plan year, it will apply to all subsequent plan years unless revoked with the consent of the Secretary. Notice 2020-60 provides guidance regarding this election.

Notice 2021-48 provides guidance on the changes to the funding rules for single-employer defined benefit pension plans under § 430 of the Code that were made by §§ 9705 and 9706 of the (the ARP), Public Law 117-2. The ARP added § 430(c)(8), respect to plan years beginning after December 31, 2021 (or, at the election of the plan sponsor, plan years beginning after December 31, 2018, December 31, 2019, or December 31, 2020), the shortfall amortization bases for all plan years preceding the first plan year to which this provision applies (and all shortfall amortization installments determined with respect to those bases) are reduced to zero, and shortfall amortization installments for all new shortfall amortization bases are calculated to amortize each shortfall amortization base over 15 plan years.

In addition, § 9706 of the ARP provides changes to the applicable minimum and maximum percentages for the 24-month average segment rates set forth in the table in § 430(h)(2)(C)(iv)(II) of the Code, effective with respect to plan years beginning after December 31, 2019. However, § 9706(c)(2) provides that a plan sponsor may elect not to have the amendments made by § 9706 apply to any plan year beginning before January 1, 2022, either (as specified in the election) for all purposes or solely for purposes of determining the AFTAP for the plan year. This notice provides guidance regarding the elections under § 430(c)(8) of the Code and § 9706(c)(2) of the ARP.

Form Number: None.

Affected Public: Individuals, business or other for-profit organizations, not-for-profit institutions and Federal, state, local or tribal governments.

TD 9467

Estimated Number of Respondents: 80,000.

Estimated Time per Respondent: 1.5 hrs.

Estimated Total Annual Burden Hours: 120,000.

Notice: 2020-60

Estimated Number of Respondents: 1,000.

Estimated Time per Respondent: 1 hr.

Estimated Total Annual Burden Hours: 1,000.

Notice 2020-61

Estimated Number of Respondents: 20.

Estimated Time per Respondent: 4 hr.

Estimated Total Annual Burden Hours: 80.

Notice 2021-48

Estimated Number of Responses: 160,000.

Estimated Time per Respondent: 25 hr.

Estimated Total Annual Burden Hours: 40,000.

36. Title: Credit for Employer Differential Wage Payments.

OMB Control Number: 1545-2126.

Type of Review: Extension of a currently approved collection.

Description: Employers use Form 8932 to claim the credit for eligible differential wage payments made to qualified employees during the tax year. The credit is 20% of the first $20,000 of differential wage payments paid to each qualified employee.

Form Number: Form 8932.

Affected Public: Business or other for-profit organizations.

Estimated Number of Respondents: 2,110.

Frequency of Response: Annually.

Estimated Total Number of Annual Responses: 2,110.

Estimated Time per Response: 2 hours, 58 minutes.

Estimated Total Annual Burden Hours: 6,246.

37. Title: Form 8928—Return of Certain Excise Taxes Under Chapter 43 of the Internal Revenue Code & TD 9457—Employer Comparable Contributions to HSAs and requirement of Return for filing excise taxes under sections 4980B, 4980D, 4980E and 4980G.

OMB Control Number: 1545-2146.

Type of Review: Extension of a currently approved collection.

Description: Form 8928 is used by employers, group health plans HMOs, and third-party administrators to report and pay excise taxes due for failures under sections 4980B, 4980D, 4980E, and 4980G. The information results from the requirement form TD 9457 to file a return for the payment of the excise taxes under sections 4980B, 4980D, 4980E, and 4980G of the code.

Form Number: Form 8928.

Affected Public: Business or other for-profit organizations, not-for-profit organizations, and individuals.

Estimated Number of Respondents: 68.

Frequency of Response: On Occasion.

Estimated Total Number of Annual Responses: 68.

Estimated Time per Response: 23.48 hours.

Estimated Total Annual Burden Hours: 1,597.

38. Title: The Health Coverage Tax Credit (HCTC) Reimbursement Request Form.

OMB Control Number: 1545-2152.

Type of Review: Revision of a currently approved collection.

Description: This form will be used by HCTC participants to request reimbursement for health plan premiums paid prior to the commencement of advance payments.

Form Number: Form 14095.

Affected Public: Individuals or households.

Estimated Number of Respondents: 3,416.

Frequency of Response: On Occasion.

Estimated Total Number of Annual Responses: 3,416.

Estimated Time per Response: 40 minutes.

Estimated Total Annual Burden Hours: 2,278 hours.

39. Title: Statement of Specified Foreign Financial Assets.

OMB Control Number: 1545-2195.

Type of Review: Extension of a currently approved collection.

Description: Form 8938 was developed to comply with IRC section 6038D to Report Foreign Financial Assets. Taxpayers use Form 8938 to report specified foreign financial assets if the total value of all the specified foreign financial assets in which they have an interest is more than the appropriate reporting threshold.

Form Number: Form 8938.

Affected Public: Individuals or households, business, or other for-profit organizations.

Estimated Number of Respondents: 350,000.

Frequency of Response: Annually.

Estimated Total Number of Annual Responses: 350,000.

Estimated Time per Response: 4 hours 43 minutes.

Estimated Total Annual Burden Hours: 1,652,000.

40. Title: Branded Prescription Drug Fee.

OMB Control Number: 1545-2209.

Type of Review: Extension of a currently approved collection.

Description: This document contains regulations that provide guidance on the annual fee imposed on covered entities engaged in the business of manufacturing or importing branded prescription drugs.

Form Number: None.

Affected Public: Business or other for-profit organizations.

Estimated Number of Respondents: 45.

Frequency of Response: On Occasion.

Estimated Total Number of Annual Responses: 45.

Estimated Time per Response: 40 hours.

Estimated Total Annual Burden Hours: 1,800.

41. Title: Applications for Voluntary Classification Settlement Program.

OMB Control Number: 1545-2215.

Type of Review: Extension of a currently approved collection.

Description: Form 8952 was created by the IRS in conjunction with the development of a new program to permit taxpayers to voluntarily reclassify workers as employees for federal employment tax purposes and obtain similar relief to that obtained in the current Classification Settlement Program. To participate in the program, taxpayers must meet certain eligibility requirements, apply to participate in VCSP, and enter into closing agreements with the IRS.

Form Number: Form 8952.

Affected Public: Businesses and other-for-profit organizations.

Estimated Number of Respondents: 1,700.

Frequency of Response: Annually.

Estimated Total Number of Annual Responses: 1,700.

Estimated Time per Response: 9 hours, 51 minutes.

Estimated Total Annual Burden Hours: 16,745.

Authority: 44 U.S.C. 3501 et seq.

Spencer W. Clark,
Treasury PRA Clearance Officer.

[FR Doc. 2022-03985 Filed 2-24-22; 8:45 am]

BILLING CODE 4830-01-P